DEPARTMENT OF THE TREASURY

Fiscal Service

31 CFR Part 337

Supplemental Regulations Governing Federal Housing Administration Debentures

AGENCY: Bureau of the Public Debt, Fiscal Service, Treasury.

ACTION: Final rule.

SUMMARY: The Department of the Treasury amends the Supplemental Regulations Governing Federal Housing Administration (FHA) Debentures by requiring debentures to be forwarded to the Bureau of the Public Debt for processing. The FHA debentures, issued under the National Housing Act as amended, were previously submitted to the Federal Reserve Bank of Philadelphia. This amendment reflects that the Bureau of the Public Debt, Office of Public Debt Accounting, will perform day-to-day operations and transactions relating to the debentures.

DATES: This rule is effective October 29, 2001.

ADDRESSES: You can download this final rule at the following World Wide Web address: <http://www.publicdebt.treas.gov>. You may also inspect and copy this rule at: Treasury Department Library, Room 1428, Main Treasury Building, 1500 Pennsylvania Ave., NW, Washington, D.C. 20220. Before visiting the library, you must call (202) 622-0990 for an appointment.

FOR FURTHER INFORMATION CONTACT: • Howard Stevens, Office of Public Debt Accounting, Bureau of the Public Debt, at (304) 480-5297 or hstevens@bpd.treas.gov

• Elizabeth Gracia, Office of the Chief Counsel, Bureau of the Public Debt, at (304) 480-8687 or lgracia@bpd.treas.gov

• Edward Gronseth, Office of Chief Counsel, Bureau of the Public Debt, at (304) 480-8692 or egronset@bpd.treas.gov

SUPPLEMENTARY INFORMATION:

I. Background

The Department of the Treasury is the fiscal agent for the Department of Housing and Urban Development for transactions in debentures that have been issued under the National Housing Act, 12 U.S.C. 1701 et seq., as amended. Federal Reserve Banks, as fiscal agents of the United States, are authorized to perform any necessary acts under this part. In final rule, 59 FR 42161, Aug. 17, 1994, this part was revised to consolidate the processing of debentures in certificated and book-entry forms at the Federal Reserve Bank of Philadelphia. This final rule amends 31 CFR part 337 to provide that the Bureau of the Public Debt, Office of Public Debt Accounting, will perform transactions relating to the debentures effective October 29, 2001.

II. Procedural Requirements

A. Executive Order 12866

This final rule is not a “significant regulatory action” as defined in Executive Order 12866 and is not a major rule under 5 U.S.C. 804. Therefore, an assessment of anticipated benefits, costs, and regulatory alternatives is not required.

B. Regulatory Flexibility Act

A prior notice of proposed rulemaking is unnecessary and impracticable because the final rule makes a minor change to the procedures for processing debentures. Because no notice of proposed rulemaking is required, the Regulatory Flexibility Act (5 U.S.C. 601, et seq.) does not apply.

C. Paperwork Reduction Act

We ask for no new collections of information in this final rule. Therefore, the Paperwork Reduction Act (44 U.S.C. 3507) does not apply.

List of Subjects in 31 CFR Part 337

Banks, Banking, Government Securities, Federal Reserve System, Housing.

For the reasons set forth in the preamble, amend 31 CFR part 337 as follows:

PART 337—SUPPLEMENTAL REGULATIONS GOVERNING FEDERAL HOUSING ADMINISTRATION DEBENTURES

1. The authority citation for part 337 continues to read as follows:

Authority: 5 U.S.C. 301; 31 U.S.C. 321; Sec. 516, Pub. L. 102-550, 106 Stat. 3790.

2. Revise § 337.0 to read as follows:

§ 337.0 Scope of regulations.

The United States Department of the Treasury is the agent of the Federal Housing Administration for transactions in any debentures which have been or may be issued pursuant to the authority conferred by the National Housing Act, 12 U.S.C. 1701 et seq., as amended from time to time, including Mutual Mortgage Insurance Fund Debentures, Housing Insurance Fund Debentures, War Housing Insurance Fund Debentures, Military Housing Insurance Fund Debentures, and National Defense Housing Insurance Fund Debentures. In accordance with the regulations adopted by the Federal Housing Commissioner and approved by the Secretary of the Treasury, such transactions are governed by regulations of the Department of the Treasury, so far as applicable. The Bureau of the Public Debt, Office of Public Debt Accounting operates the FHA debenture computer system and performs the day-to-day operations and transactions relating to the debentures.

3. Revise § 337.2 to read as follows:

§ 337.2 Transportation charges and risks.

Debentures presented for redemption at call or maturity, or for authorized prior purchase, or for conversion to book-entry form, must be delivered at the expense and risk of the holder. Debentures bearing restricted assignments may be forwarded by registered mail, but for the owner's protection debentures bearing unrestricted assignments should be forwarded by insured registered mail.

4. Amend § 337.4 by revising paragraph (a) to read as follows:

§ 337.4 Presentation and surrender.

(a) For redemption. To facilitate the redemption of called or maturing debentures, they may be presented and surrendered in the manner prescribed in this section in advance of the call or maturity date, as the case may be. Early presentation by holders will insure prompt payment of principal and interest when due. The debentures must first be assigned by the registered payee or his assignee, or by his duly constituted representative, if required, in the form and manner indicated in § 337.5, and must then be submitted to the Bureau of the Public Debt at the address given in § 337.14, accompanied by appropriate written advice. A transmittal advice for this purpose will accompany the notice of call.

* * * * *

5. Revise § 337.14 to read as follows:

§ 337.14 Address for further information.

Further information regarding the issuance of, transactions in, and redemption of, FHA debentures may be obtained from the Bureau of the Public Debt, Office of Public Debt Accounting, 200 Third Street, P.O. Box 396, Parkersburg, West Virginia 26102-0396.

6. Revise § 337.15 to read as follows:

§ 337.15 General Provisions.

As fiscal agents of the United States, Federal Reserve Banks are authorized to perform any necessary acts under this part. The Secretary of the Treasury may at any time or from time to time prescribe supplemental and amendatory regulations governing the matters covered by this part, notice of which shall be communicated promptly to the registered owners of the debentures.

Dated: November 1, 2001.
Donald V. Hammond,
Fiscal Assistant Secretary.

[FR Doc. 01-28209 Filed 11-6-01; 2:23 pm]

BILLING CODE 4810-39-P